DEPARTMENT OF ENERGY

Federal Energy Regulatory Commission

Combined Notice of Filings #2

Take notice that the Commission received the following electric corporate filings:

Docket Numbers: EC15-209-000.

Applicants: CPV Sentinel, LLC.

Description: Clarification to September 23, 2015 Application for Authorization Under Section 203 of the Federal Power Act and Request for Expedited Action and Shortened Comment Period of CPV Sentinel, LLC.

Filed Date: 11/3/15.

Accession Number: 20151103-5229.

Comments Due: 5 p.m. ET 11/13/15.

Take notice that the Commission received the following exempt wholesale generator filings:

Docket Numbers: EG16-16-000.

Applicants: OCI Alamo 6 LLC.

Description: OCI Alamo 6 LLC Self-Certification of EWG Status.

Filed Date: 11/4/15.

Accession Number: 20151104-5096.

Comments Due: 5 p.m. ET 11/25/15.

Docket Numbers: EG16-17-000.

Applicants: OCI Alamo 7 LLC.

Description: OCI Alamo 7 LLC Self-Certification of EWG.

Filed Date: 11/4/15.

Accession Number: 20151104-5099.

Comments Due: 5 p.m. ET 11/25/15.

Docket Numbers: EG16-18-000.

Applicants: OCI Solar TRE LLC.

Description: OCI Solar TRE LLC Notice Self-Certification of EWG.

Filed Date: 11/4/15.

Accession Number: 20151104-5100.

Comments Due: 5 p.m. ET 11/25/15.

Take notice that the Commission received the following electric rate filings:

Docket Numbers: ER15-2668-000.

Applicants: Land of the Sky MT, LLC.

Description: Supplement to September 17, 2015 Land of the Sky MT, LLC tariff filing.

Filed Date: 11/2/15.

Accession Number: 20151102-5300.

Comments Due: 5 p.m. ET 11/12/15.

Docket Numbers: ER16-121-000; EL16-6-001.

Applicants: PJM Interconnection, L.L.C.

Description: Errata to the EL16-6-000 Filing to Correct the Proposed Effective Date to 6/1/16 to be effective 6/1/2016.

Filed Date: 10/30/15.

Accession Number: 20151030-5391.

Comments Due: 5 p.m. ET 11/9/15.

Docket Numbers: ER16-259-000.

Applicants: C.P. Crane LLC.

Description: Initial rate filing: Reactive Rate Schedule FERC No. 2 to be effective 1/3/2016.

Filed Date: 11/4/15.

Accession Number: 20151104-5122.

Comments Due: 5 p.m. ET 11/25/15.

Docket Numbers: ER16-260-000.

Applicants: DTE East China, LLC.

Description: Tariff Cancellation: Cancellation of East China Tariff No 4 and 5 to be effective 11/4/2015.

Filed Date: 11/4/15.

Accession Number: 20151104-5126.

Comments Due: 5 p.m. ET 11/25/15.

Docket Numbers: ER16-261-000.

Applicants: PJM Interconnection, L.L.C., Commonwealth Edison Company.

Description: § 205(d) Rate Filing: ComEd submits Attach. M-2 to incorporate provisions being removed in Attach. W to be effective 1/4/2016.

Filed Date: 11/4/15.

Accession Number: 20151104-5128.

Comments Due: 5 p.m. ET 11/25/15.

Docket Numbers: ER16-262-000.

Applicants: Uniper Global Commodities North America LLC.

Description: § 205(d) Rate Filing: 2016 normal to be effective 1/1/2016.

Filed Date: 11/4/15.

Accession Number: 20151104-5144.

Comments Due: 5 p.m. ET 11/25/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 4, 2015.
Nathaniel J. Davis, Sr.,
Deputy Secretary.

[FR Doc. 2015-28632 Filed 11-10-15; 8:45 am]

BILLING CODE 6717-01-P